DEPARTMENT OF COMMERCE

National Oceanic and Atmospheric Administration

Evaluation of State Coastal Management Programs and National Estuarine Research Reserves

AGENCY: Office of Ocean and Coastal Resource Management National Ocean Service, National Oceanic and Atmospheric Administration (NOAA), DOC.

ACTION: Notice of availability of final evaluation findings.

SUMMARY: Notice is hereby given of the availability of the final evaluation findings for the Delaware, Maine, Massachusetts and Texas Coastal Management Programs. Sections 312 and 315 of the Coastal Zone Management Act of 1972 (CZMA), as amended, require a continuing review of the performance of coastal states with respect to approval of coastal management programs, and the operation and management of NERRs.

The states of Delaware, Maine, Massachusetts and Texas were found to be implementing and enforcing their federally approved coastal management programs, addressing the national coastal management objectives identified in CZMA Section 303(2)(A)-(K), and adhering to the programmatic terms of their financial assistance awards.

Copies of these final evaluation findings may be obtained upon written request from: Ralph Cantral, Senior Policy Analyst, Office of Ocean and Coastal Resource Management, NOS/NOAA, 1305 East-West Highway 10th Floor, Silver Spring, Maryland 20910, or Ralph.Cantral@noaa.gov, (301) 713-3155 Extension 118.

Dated: October 16, 2001.
Jamison S. Hawkins,
Deputy Assistant Administrator for Ocean Services and Coastal Zone Management.

[FR Doc. 01-26724 Filed 10-23-01; 8:45 am]

BILLING CODE 3510-08-M